DEPARTMENT OF TRANSPORTATION

Coast Guard

33 CFR Part 165

[COTP SAVANNAH-00-098]

RIN 2115-AA97

Safety Zone Regulations: Savannah, GA

AGENCY: Coast Guard, DOT.

ACTION: Temporary final rule.

SUMMARY: The Coast Guard is establishing a temporary safety zone starting at the Southern Natural Gas dock at Elba Island (N32.05.48, W080.59.48) and extending outward in a 100 yard radius into the Savannah River. This safety zone is necessary to protect boaters from the hazards associated with the compromised structural integrity of the Southern Natural Gas dock at Elba Island.

EFFECTIVE DATES: This regulation becomes effective at 8:50 p.m. on September 21, 2000 and will remain in effect until 11:30 p.m. on November 15, 2000.

FOR FURTHER INFORMATION CONTACT: LTJG Peter Simonds, Coast Guard Marine Safety Office Savannah, at (912) 652-4353.

SUPPLEMENTARY INFORMATION:

Regulatory Information

We did not publish a notice of proposed rulemaking (NPRM) for this regulation. Under 5 U.S.C. 553(b)(B), the Coast Guard finds that good cause exists for not publishing an NPRM. Publishing a NPRM would be contrary to the public interest since immediate action is needed to protect boaters from hazards associated with the compromised structural integrity of the Southern Natural Gas dock at Elba Island. The Coast Guard received notice of this compromised structural integrity of the facility on September 21, 2000 and the safety zone becomes effective on September 21, 2000.

Under 5 U.S.C. 553(d)(3), the Coast Guard finds that good cause exists for making this rule effective less than 30 days after publication in the Federal Register. Delaying its effective date would be contrary to the public interest since immediate action is needed to protect boaters from hazards associated with the compromised structural integrity of the Southern Natural Gas dock at Elba Island. The Coast Guard received notice of compromised structural integrity of the Southern Natural Gas dock at Elba Island on September 21, 2000 and the safety zone becomes effective on September 21, 2000.

Background and Purpose

This regulation is necessary to protect boaters from the hazards associated with Compromised structural integrity of the Southern Natural Gas dock at Elba Island. All vessels are prohibited from anchoring or transiting restricted waters and channels unless specifically authorized by the Captain of the Port Savannah, GA. This regulation does not apply to authorized law enforcement or search and rescue vessels operating within the safety zone. The Captain of the Port Savannah, GA will issue a Marine Safety Information Broadcast Notice to Mariners (BNTM) to notify the marine community of the safety zone and the imposed restrictions.

Regulatory Evaluation

This rule is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040, February 26, 1979). This rule will only be in effect in a limited area.

Small Entities

Under the Regulatory Flexibility Act (5 U.S.C. 601-612), we considered whether this rule would have a significant economic effect upon a substantial number of small entities. The term “small entities” comprises small businesses, not-for-profit organizations that are independently owned and operated and are not dominant in their fields, and governmental jurisdictions with populations of less than 50,000.

The Coast Guard certifies under section 605(b) that this rule will not have a significant economic impact on a substantial number of small entities as it will only effect a limited area.

Assistance for Small Entities

Under section 213(a) of the Small Business Regulatory Enforcement Fairness Act of 1996 (Pub. L. 104-121), we offer to assist small entities in understanding the rule so that they could better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal Regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environmental

The Coast Guard considered the environmental impact of this rule and concluded under Figure 2-1, paragraph 34(g) of Commandant Instruction M16475.1C, this rule is categorically excluded from further environmental documentation.

List of Subjects in 33 CFR Part 165

Harbors, Marine safety, Navigation (water), Reports and recordkeeping requirements, Security measures, Waterways.

Temporary Regulations: For the reasons discussed in the preamble, the Coast Guard amends 33 CFR Part 165, as follows:

PART 165—[AMENDED]

1. The authority citation for Part 165 continues to read as follows:

Authority: 33 U.S.C. 1231; 50 U.S.C. 191; and 33 CFR 1.05-1(g), 6.04-1, 6.04-6, and 160.5; and 49 CFR 1.46.

2. A new temporary § 165.T07-098 is added to read as follows:

§ 165.T07-098 Safety Zone; Savannah, GA.

(a) Regulated Area: A temporary fixed safety zone is established within the area outlined by a 100 yard radius extending from the Southern Natural Gas dock at Elba Island (32°05′24″N, 80°59′48″W). All coordinates referenced use NAD 83.

(b) Regulations. In accordance with the general regulations in § 165.23 of this part, all vessels are prohibited from anchoring or transiting in the safety zone unless specifically authorized by the Captain of the Port Savannah, GA.

(c) Dates. This regulation becomes effective at 8:50 p.m. on September 21, 2000 and will remain in effect until 11:30 p.m. on November 15, 2000.

Dated: September 21, 2000.
J.L. McDonald,
U.S. Coast Guard, Captain of the Port Savannah.

[FR Doc. 00-28058 Filed 11-1-00; 8:45 am]

BILLING CODE 4910-15-P